DEPARTMENT OF JUSTICE

Antitrust Division

Notice Pursuant to the National Cooperative Research and Production Act of 1993—Biotechnology Research and Development Corporation (“BRDC”)

Notice is hereby given that, on August 18, 2000, pursuant to Section 6(a) of the National Cooperative Research and Production Act of 1993, 15 U.S.C. 4301 et seq. (“the Act”), Biology Research and Development Corporation (“BRDC”) has filed written notifications simultaneously with the Attorney General and the Federal Trade Commission disclosing changes in its membership status. The notifications were filed for the purpose of extending the Act's provisions limiting the recovery of antitrust plaintiffs to actual damages under specified circumstances. Specifically, BASF Corporation, Triangle Park, NC, owned by BASF AG, Limburgerhof, Germany has been added as a party to this venture. Also, American Home Products Corporation, Parsippany, NJ has been dropped as a party to this venture.

No other changes have been made in either the membership or planned activity of the group research project. Membership in this group research project remains open, and BRDC intends to file additional written notification disclosing all changes in membership.

On April 13, 1988, BRDC filed its original notification pursuant to Section 6(a) of the Act. The Department of Justice published a notice in the Federal Register pursuant to Section 6(b) of the Act on May 12, 1988 (53 FR 16919).

The last notification was filed with the Department on February 11, 2000. A notice was published in the Federal Register pursuant to Section 6(b) of the Act on August 9, 2000 (65 FR 48735).

Constance K. Robinson,
Director of Operations, Antitrust Division.

[FR Doc. 00-25304 Filed 10-2-00; 8:45 am]

BILLING CODE 4410-11-M